OFFICE OF THE UNITED STATES TRADE REPRESENTATIVE

[Docket No. USTR-2019-0001]

Generalized System of Preferences (GSP): Notice Regarding the 2019 GSP Annual Product Review

AGENCY: Office of the United States Trade Representative.

ACTION: Notice of hearing and requests to testify and for public comments.

SUMMARY: The Office of the United States Trade Representative (USTR) has accepted petitions submitted in connection with the 2019 GSP Annual Product Review for further review. This notice includes the schedule for submission of public comments and the date of a public hearing to review these petitions and products by the GSP Subcommittee of the Trade Policy Staff Committee (TPSC).

DATES:

June 26, 2019 at midnight EDT: Deadline for submission of comments, pre-hearing briefs, and requests to appear at the GSP Subcommittee Public Hearing on the 2019 GSP Annual Product Review.

July 2, 2019 at 1:30 p.m. EDT: The GSP Subcommittee will convene a public hearing on all petitioned product additions, product removals, and competitive needs limitation (CNL) waiver petitions that it accepted for the 2019 GSP Annual Product Review. The hearing will be in Rooms 1 and 2, 1724 F Street NW, Washington, DC 20508, beginning at 1:30 p.m.

August 15, 2019 at midnight EDT: Deadline for submission of post-hearing comments or briefs in connection with the GSP Subcommittee Public Hearing.

September 7, 2019: USTR expects that the U.S. International Trade Commission (USITC) will deliver a report to USTR providing advice on the probable economic effects of adding products to GSP eligibility, removing products from GSP eligibility, and granting CNL waiver petitions during the 2019 GSP Annual Product Review. Interested parties can post comments on the USITC report on www.regulations.gov using Docket Number USTR-2019-0001 (instructions for submissions are provided below). Comments are due ten calendar days after the publication date of the USITC's public report.

November 1, 2019: Effective date for any modifications that the President proclaims to the list of articles eligible for duty-free treatment under GSP resulting from the 2019 GSP Annual Product Review and for determinations related to CNL waivers.

ADDRESSES: USTR strongly prefers electronic submissions made through the Federal Rulemaking Portal: https://www.regulations.gov, using docket number USTR-2019-0001. Follow the instructions for submitting comments in “Requirements for Submissions” below. For alternatives to on-line submissions, please contact Yvonne Jamison at (202) 395-3475.

FOR FURTHER INFORMATION CONTACT: Erland Herfindahl, Deputy Assistant USTR for GSP, 1724 F Street NW, Washington, DC 20508. The telephone number is (202) 395-2974 and the email address is gsp@ustr.eop.gov.

SUPPLEMENTARY INFORMATION:

A. Background

The GSP program provides for the duty-free importation of designated articles when imported from designated beneficiary developing countries. The GSP program is authorized by Title V of the Trade Act of 1974 (19 U.S.C. 2461-2467), as amended, and is implemented in accordance with Executive Order 11888 of November 24, 1975, as modified by subsequent Executive Orders and Presidential Proclamations.

B. Petitions Requesting Modifications of GSP Product Eligibility

In a notice published in the Federal Register on March 25, 2019 (84 FR 11150), USTR announced the 2019 GSP Annual Product Review and indicated that the GSP Subcommittee was prepared to receive petitions to modify the list of products that are eligible for duty-free treatment under the GSP program and petitions to waive CNLs on imports of certain products from specific beneficiary countries. The GSP Subcommittee has reviewed the product and CNL waiver petitions submitted in response to these announcements, and has decided to accept for review several petitions seeking to: Remove products from GSP eligibility for certain GSP beneficiary countries; waive certain CNLs; and redesignate certain products to GSP eligibility for certain GSP beneficiary countries.

USTR posted a list of petitions and products accepted for review at https://ustr.gov/issue-areas/preference-programs/generalized-system-preferences-gsp/current-reviews/2019-annual under the title “Petitions Accepted in the 2019 GSP Annual Product Review.” You also can find this list at www.regulations.gov in Docket Number USTR-2019-0001. Acceptance indicates only that the TPSC found that the subject petition warranted further consideration and that a review of the requested action will take place.

The GSP Subcommittee invites public comments on any petition it has accepted for the 2019 GSP Annual Product Review. Public comments are due on June 26, 2019, at midnight EDT. The GSP Subcommittee also will convene a public hearing on these products and petitions. See below for information on how to submit a request to testify at this hearing.

C. Notice of Public Hearing for the GSP Product Review

The GSP Subcommittee will hold a hearing on July 2, 2019, beginning at 1:30 p.m., for products and petitions accepted for the 2019 GSP Annual Product Review. The hearing will be held at 1724 F Street NW, Washington, DC 20508 and will be open to the public. USTR will make a transcript of the hearing available on www.regulations.gov approximately two weeks after the hearing date.

All interested parties wishing to make an oral presentation at the hearing must submit, following the “Requirements for Submissions” below, the name, address, telephone number, and email address (if available), of the witness(es) representing their organization by midnight, June 26, 2019. Requests to present oral testimony in connection with the public hearing must include a written brief or summary statement, in English, which you also must submit by midnight, June 26, 2019. Oral testimony before the GSP Subcommittee will be limited to five-minute presentations that summarize or supplement information contained in briefs or statements submitted for the record. USTR will accept post-hearing briefs or statements that conform to the regulations cited below and you submit, in English, by midnight, August 15, 2019. Parties not wishing to appear at the public hearing may submit pre-hearing and post-hearing briefs or comments by the aforementioned deadlines.

D. Requirements for Submissions

You must submit requests to testify, written comments, and pre-hearing and post-hearing briefs by the applicable deadlines set forth in this notice. You must make all submissions in English via http://www.regulations.gov, using Docket Number USTR-2019-0001. USTR will not accept hand-delivered submissions. To make a submission using http://www.regulations.gov, enter the appropriate docket number in the `search for' field on the home page and click `search.' The site will provide a search-results page listing all documents associated with this docket. Find a reference to this notice by selecting `notice' under `document type' in the `filter results by' section on the left side of the screen and click on the link entitled `comment now.' The regulations.gov website offers the option of providing comments by filling in a `type comment' field or by attaching a document using the `upload file(s)' field. The GSP Subcommittee prefers that you provide submissions in an attached document and note `see attached' in the `type comment' field on the online submission form. At the beginning of the submission, or on the first page (if an attachment) include the following text (in bold and underlined): (1) “2019 GSP Annual Product Review”; (2) the subject matter or the product description and related HTS tariff number; and (3) whether the document is a `written comment', `notice of intent to testify,' `pre-hearing brief,' or `post-hearing brief.' Submissions should not exceed thirty single-spaced, standard letter-size pages in twelve-point type, including attachments. Include any data attachments to the submission in the same file as the submission itself, and not as separate files.

You will receive a tracking number upon completion of the submission procedure at http://www.regulations.gov. The tracking number is confirmation that regulations.gov received the submission. Keep the confirmation for your records. USTR is not able to provide technical assistance for the website. USTR may not consider documents you do not submit in accordance with these instructions. If you are unable to provide submissions as requested, please contact the GSP Program at USTR to arrange for an alternative method of transmission.

E. Business Confidential Submissions

If you ask USTR to treat information you submitted as business confidential information (BCI), you must certify that the information is business confidential and you would not customarily release it to the public. You must clearly designate BCI by marking the submission “BUSINESS CONFIDENTIAL” at the top and bottom of the cover page and each succeeding page, and indicating, via brackets, the specific information that is BCI. Additionally, you must include `Business Confidential' in the `type comment' field. For any submission containing BCI, you must separately submit a non-confidential version, i.e., not as part of the same submission with the confidential version, indicating where BCI has been redacted. USTR will post the non-confidential version in the docket and it will be open to public inspection.

F. Public Viewing of Review Submissions

Submissions in response to this notice, except for information granted business confidential status under 15 CFR 2003.6, will be available for public viewing pursuant to 15 CFR 2007.6 at http://www.regulations.gov upon completion of processing, usually within two weeks of the relevant due date or date of the submission. USTR will make public versions of all documents relating to these reviews available for public viewing in Docket Number USTR-2019-0001 at http://www.regulations.gov upon completion of processing.

Erland Herfindahl,
Deputy Assistant U.S. Trade Representative for the Generalized System of Preferences, Office of the United States Trade Representative.

[FR Doc. 2019-12589 Filed 6-13-19; 8:45 am]

BILLING CODE 3290-F9-P